ENVIRONMENTAL PROTECTION AGENCY

40 CFR Part 300

[FRL-7792-9]

National Oil and Hazardous Substance Pollution Contingency Plan; National Priorities List

AGENCY: Environmental Protection Agency.

ACTION: Notice of intent to delete the Ralph Gray Trucking Company Superfund Site from the National Priorities List.

SUMMARY: The Environmental Protection Agency (EPA) Region IX is issuing a notice of intent to delete Ralph Gray Trucking Company Superfund Site (Site) located in Westminster, California, from the National Priorities List (NPL) and requests public comments on this notice of intent. The NPL, promulgated pursuant to section 105 of the Comprehensive Environmental Response, Compensation, and Liability Act (CERCLA) of 1980, as amended, is found at Appendix B of 40 CFR part 300, which is the National Oil and Hazardous Substances Pollution Contingency Plan (NCP). The EPA and the State of California, through the California Department of Toxic Substances Control (DTSC), have determined that all appropriate response actions under CERCLA have been completed. However, this deletion does not preclude future actions under CERCLA.

In the “Rules and Regulations” section of today's Federal Register, we are publishing a direct final notice of deletion of Ralph Gray Trucking Company Superfund Site without prior notice of intent to delete because we view this as a noncontroversial revision and anticipate no adverse comment. We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the rules section of this Federal Register.

DATES: Comments concerning this Site must be received by August 30, 2004.

ADDRESSES: Written comments should be addressed to: Don Hodge, Community Involvement Coordinator, U.S. EPA Region IX (SFD-3), 75 Hawthorne Street, San Francisco, CA 94105-3901, (415) 972-3240 or 1-800-231-3075.

FOR FURTHER INFORMATION CONTACT: Patricia Bowlin, Remedial Project Manager, U.S. EPA Region IX (SFD-7-3), 75 Hawthorne Street, San Francisco, CA 94105-3901, (415) 972-3177 or 1-800-231-3075.

SUPPLEMENTARY INFORMATION: For additional information, see the Direct Final Notice of Deletion which is located in the rules section of this Federal Register.

Information Repositories: Repositories have been established to provide detailed information concerning this decision at the following address: U.S. EPA Region IX Superfund Records Center, 95 Hawthorne Street, San Francisco, CA 94105-3901, (415) 536-2000, Monday through Friday 8 a.m. to 5 p.m.; Westminster Public Library, 8180 13th Street, Westminster, CA 92683, (714) 893-5057.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 21, 2004.
Laura Yoshii,
Acting Regional Administrator, Region IX.

[FR Doc. 04-17298 Filed 7-29-04; 8:45 am]

BILLING CODE 6560-50-P